DEPARTMENT OF ENERGY

Federal Energy Regulatory Commission

Combined Notice of Filings #1

Take notice that the Commission received the following electric corporate filings:

Docket Numbers: EC15-199-000.

Applicants: Grand Ridge Energy LLC, Grand Ridge Energy II LLC, Grand Ridge Energy III LLC, Grand Ridge Energy IV LLC, Grand Ridge Energy Storage LLC.

Description: Application for Authorization under Section 203 of the Federal Power Act and Request for Waivers and Expedited Action of Grand Ridge Energy LLC, et al.

Filed Date: 9/2/15.

Accession Number: 20150902-5078.

Comments Due: 5 p.m. ET 9/23/15.

Docket Numbers: EC15-200-000.

Applicants: ITC Midwest LLC.

Description: Application Pursuant to Section 203 of the Federal Power Act to Acquire New Assets of ITC Midwest LLC.

Filed Date: 9/2/15.

Accession Number: 20150902-5079.

Comments Due: 5 p.m. ET 9/23/15.

Take notice that the Commission received the following electric rate filings:

Docket Numbers: ER10-1819-012; ER10-1820-015; ER10-1818-010; ER10-1817-011.

Applicants: Northern States Power Company, a Minnesota corporation, Northern States Power Company, a Wisconsin corporation, Public Service Company of Colorado, Southwestern Public Service Company.

Description: Notice of Change in Status of Northern States Power Company, a Minnesota corporation, et al.

Filed Date: 9/2/15.

Accession Number: 20150902-5072.

Comments Due: 5 p.m. ET 9/23/15.

Docket Numbers: ER15-243-001.

Applicants: PJM Interconnection, L.L.C., The Dayton Power and Light Company.

Description: Compliance filing: Dayton submits a compliance filing revising Attachment H-15 per 8/14/15 Order to be effective 1/1/2015.

Filed Date: 9/1/15.

Accession Number: 20150901-5238.

Comments Due: 5 p.m. ET 9/22/15.

Docket Numbers: ER15-2592-000.

Applicants: Sierra Pacific Power Company.

Description: § 205(d) Rate Filing: Rate Schedule No. 55 SPPC Liberty 1st Amended Service Agreement 073115 to be effective 1/1/2016.

Filed Date: 9/1/15.

Accession Number: 20150901-5263.

Comments Due: 5 p.m. ET 9/22/15.

Docket Numbers: ER15-2593-000.

Applicants: Desert Stateline LLC.

Description: Baseline eTariff Filing: Application and Initial Baseline Tariff Filing to be effective 11/1/2015.

Filed Date: 9/1/15.

Accession Number: 20150901-5269.

Comments Due: 5 p.m. ET 9/22/15.

Docket Numbers: ER15-2594-000.

Applicants: South Central MCN, LLC.

Description: Application for Acceptance of Transmission Rate Formula and Approval of Transmission Rate Incentives of South Central MCN LLC.

Filed Date: 9/1/15.

Accession Number: 20150901-5274.

Comments Due: 5 p.m. ET 9/22/15.

Docket Numbers: ER15-2595-000.

Applicants: PacifiCorp.

Description: PacifiCorp Termination of SA 565 Klamath Geothermal No. 1 KL-01 LLC SGIA Facilities Maintenance Agreement.

Filed Date: 9/1/15.

Accession Number: 20150901-5276.

Comments Due: 5 p.m. ET 9/22/15.

Docket Numbers: ER15-2596-000.

Applicants: Golden Spread Electric Cooperative, Inc.

Description: § 205(d) Rate Filing: Exhibit C Amendment Filing to be effective 11/6/2014.

Filed Date: 9/2/15.

Accession Number: 20150902-5131.

Comments Due: 5 p.m. ET 9/23/15.

Docket Numbers: ER15-2597-000.

Applicants: PJM Interconnection, L.L.C.

Description: § 205(d) Rate Filing: Service Agreement No. 4241; Queue AA1-067 (ICSA) to be effective 8/4/2015.

Filed Date: 9/2/15.

Accession Number: 20150902-5135.

Comments Due: 5 p.m. ET 9/23/15.

Take notice that the Commission received the following electric securities filings:

Docket Numbers: ES15-66-000.

Applicants: El Paso Electric Company.

Description: Application of El Paso Electric Company for FPA Section 204 authorization.

Filed Date: 9/2/15.

Accession Number: 20150902-5113.

Comments Due: 5 p.m. ET 9/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2015.
Nathaniel J. Davis, Sr.,
Deputy Secretary.

[FR Doc. 2015-22737 Filed 9-9-15; 8:45 am]

BILLING CODE 6717-01-P